DEPARTMENT OF ENERGY

Federal Energy Regulatory Commission

Combined Notice of Filings #1

Take notice that the Commission received the following electric corporate filings:

Docket Numbers: EC23-129-000.

Applicants: SR Millington, LLC.

Description: Supplement to September 1, 2023, Application for Authorization Under Section 203 of the Federal Power Act of SR Millington, LLC.

Filed Date: 11/1/23.

Accession Number: 20231101-5281.

Comment Date: 5 p.m. ET 11/13/23.

Take notice that the Commission received the following Complaints and Compliance filings in EL Dockets:

Docket Numbers: EL24-11-000.

Applicants: Direct Energy Business, LLC v. California Independent System Operator Corporation.

Description: Complaint of Direct Energy Business, LLC v. California Independent System Operator Corporation.

Filed Date: 11/3/23.

Accession Number: 20231103-5204.

Comment Date: 5 p.m. ET 11/24/23.

Take notice that the Commission received the following electric rate filings:

Docket Numbers: ER10-1852-083; ER10-1890-026; ER10-1951-059; ER10-1962-026; ER19-1076-011; ER11-2160-026; ER19-1073-010; ER11-4462-082; ER11-4677-027; ER11-4678-026; ER12-199-022; ER12-631-027; ER12-676-022; ER12-2444-025; ER13-1991-029; ER13-1992-029; ER13-2112-021; ER15-1016-019; ER15-1375-020; ER15-1418-020; ER15-1883-020; ER15-2243-017; ER15-2477-019; ER16-90-019; ER16-91-019; ER16-632-019; ER16-2443-016; ER17-582-018; ER17-583-018; ER17-838-056; ER17-2340-016; ER20-819-013; ER20-820-012; ER20-2695-011; ER21-1580-008; ER21-2294-009; ER21-2304-008; ER22-415-007; ER22-1370-007; ER22-2552-003; ER22-2824-006; ER23-147-003; ER23-148-003; ER23-1208-001; ER23-1541-001; ER23-1542-001; ER23-1543-001; ER24-34-001; ER24-136-001.

Applicants: Sunlight Storage II, LLC, Proxima Solar, LLC, Desert Peak Energy Storage II, LLC, Desert Peak Energy Storage I, LLC, Desert Peak Energy Center, LLC, North Central Valley Energy Storage, LLC, Resurgence Solar II, LLC, Resurgence Solar I, LLC, Yellow Pine Solar, LLC, Java Solar, LLC, Sunlight Storage, LLC, Arlington Energy Center III, LLC, Arlington Solar, LLC, Arlington Energy Center II, LLC, Sky River Wind, LLC, Mohave County Wind Farm LLC, Blythe Solar IV, LLC, Blythe Solar III, LLC, Golden Hills North Wind, LLC, NextEra Energy Marketing, LLC, Whitney Point Solar, LLC, Westside Solar, LLC, NextEra Blythe Solar Energy Center, LLC, Blythe Solar II, LLC, Blythe Solar 110, LLC, Golden Hills Interconnection, LLC, Golden Hills Wind, LLC, Silver State Solar Power South, LLC, Adelanto Solar, LLC, Adelanto Solar II, LLC, McCoy Solar, LLC, Shafter Solar, LLC, Genesis Solar, LLC, Desert Sunlight 300, LLC, Desert Sunlight 250, LLC, North Sky River Energy, LLC, Perrin Ranch Wind, LLC, Windpower Partners 1993, LLC, Coram California Development, L.P., Vasco Winds, LLC, NextEra Energy Montezuma II Wind, LLC, NEPM II, LLC, Alta Wind VIII, LLC, FPL Energy Montezuma Wind, LLC, Windstar Energy, LLC, High Winds, LLC, NextEra Energy Services Massachusetts, LLC, FPL Energy Green Power Wind, LLC, Florida Power & Light Company.

Description: Notice of Change in Status of Florida Power & Light Company, et al.

Filed Date: 10/31/23.

Accession Number: 20231031-5379.

Comment Date: 5 p.m. ET 11/21/23.

Docket Numbers: ER21-2368-001.

Applicants: Chalk Point Power, LLC.

Description: Compliance filing: Dickerson Power, et al., Informational Filing Pursuant to PJM Schedule 2 to be effective N/A.

Filed Date: 11/3/23.

Accession Number: 20231103-5230.

Comment Date: 5 p.m. ET 11/24/23.

Docket Numbers: ER22-2277-001.

Applicants: Lanyard Power Holdings, LLC.

Description: Compliance filing: Informational Filing Pursuant to PJM Schedule 2 to be effective N/A.

Filed Date: 11/6/23.

Accession Number: 20231106-5000.

Comment Date: 5 p.m. ET 11/27/23.

Docket Numbers: ER22-2569-001.

Applicants: Dickerson Power, LLC.

Description: Compliance filing: Dickerson Power, et al., Informational Filing Pursuant to PJM Schedule 2 to be effective N/A.

Filed Date: 11/3/23.

Accession Number: 20231103-5225.

Comment Date: 5 p.m. ET 11/24/23.

Docket Numbers: ER23-1829-001; ER10-310-005; ER10-2414-020; ER11-113-016; ER11-4694-012; ER12-1680-013; ER17-2084-006; ER20-967-004; ER21-44-006; ER22-937-003; ER22-938-003; ER23-618-001.

Applicants: Sandy Ridge Wind 2, LLC, New Market Solar ProjectCo 2, LLC, New Market Solar ProjectCo 1, LLC, Altavista Solar, LLC, Great Bay Solar II, LLC, Great Bay Solar 1, LLC, Minonk Wind, LLC, GSG 6, LLC, Sandy Ridge Wind, LLC, Old Trail Wind Farm, LLC, Algonquin Energy Services Inc., Shady Oaks Wind 2, LLC.

Description: Notice of Non-Material Change in Status of Shady Oaks Wind 2, LLC, et al.

Filed Date: 11/1/23.

Accession Number: 20231101-5283.

Comment Date: 5 p.m. ET 11/22/23.

Docket Numbers: ER23-2593-001.

Applicants: Alabama Power Company, Georgia Power Company, Mississippi Power Company.

Description: Tariff Amendment: Alabama Power Company submits tariff filing per 35.17(b): Duke Energy Renewables Solar (Durant Solar) LGIA Deficiency Response to be effective 7/28/2023.

Filed Date: 11/6/23.

Accession Number: 20231106-5044.

Comment Date: 5 p.m. ET 11/27/23.

Docket Numbers: ER24-188-000.

Applicants: Wild Springs Solar, LLC.

Description: Report Filing: Supplement to Application for Market-Based Rate Authority to be effective N/A.

Filed Date: 11/3/23.

Accession Number: 20231103-5069.

Comment Date: 5 p.m. ET 11/24/23.

Docket Numbers: ER24-324-000.

Applicants: ISO New England Inc., New England Power Pool Participants Committee.

Description: Compliance filing: ISO New England Inc. submits tariff filing per 35: Change to Eliminate Energy Supply Offer Upward Mitigation; ER23-1261 and EL23-62 to be effective 12/12/2023.

Filed Date: 11/2/23.

Accession Number: 20231102-5142.

Comment Date: 5 p.m. ET 11/16/23.

Docket Numbers: ER24-340-000.

Applicants: Midcontinent Independent System Operator, Inc.

Description: § 205(d) Rate Filing: 2023-11-03_Att X GIP Improvements to be effective 1/22/2024.

Filed Date: 11/3/23.

Accession Number: 20231103-5185.

Comment Date: 5 p.m. ET 11/24/23.

Docket Numbers: ER24-341-000.

Applicants: Midcontinent Independent System Operator, Inc.

Description: § 205(d) Rate Filing: 2023-11-03_Att X Interconnection Queue Cap to be effective 1/22/2024.

Filed Date: 11/3/23.

Accession Number: 20231103-5187.

Comment Date: 5 p.m. ET 11/24/23.

Docket Numbers: ER24-342-000.

Applicants: New York Independent System Operator, Inc.

Description: Compliance filing: Compliance Filing to Establish Interim Transition Procedures re: Order No. 2023 to be effective 11/30/2023.

Filed Date: 11/3/23.

Accession Number: 20231103-5195.

Comment Date: 5 p.m. ET 11/24/23.

Docket Numbers: ER24-343-000.

Applicants: Nestlewood Solar I LLC.

Description: Baseline eTariff Filing: Market-Based Rate Application to be effective 11/4/2023.

Filed Date: 11/3/23.

Accession Number: 20231103-5212.

Comment Date: 5 p.m. ET 11/24/23.

Docket Numbers: ER24-344-000.

Applicants: Alabama Power Company, Georgia Power Company, Mississippi Power Company.

Description: § 205(d) Rate Filing: Alabama Power Company submits tariff filing per 35.13(a)(2)(iii: Channel Cat Solar LGIA Filing to be effective 10/25/2023.

Filed Date: 11/6/23.

Accession Number: 20231106-5048.

Comment Date: 5 p.m. ET 11/27/23.

Docket Numbers: ER24-345-000.

Applicants: New England Power Company.

Description: Notice of Cancellation of Interconnection Agreement with Millennium Power Company, LLC, of New England Power Company.

Filed Date: 11/2/23.

Accession Number: 20231102-5245.

Comment Date: 5 p.m. ET 11/24/23.

Docket Numbers: ER24-346-000.

Applicants: Alabama Power Company, Georgia Power Company, Mississippi Power Company.

Description: § 205(d) Rate Filing: Alabama Power Company submits tariff filing per 35.13(a)(2)(iii: Roxana Solar Project LGIA Filing to be effective 10/25/2023.

Filed Date: 11/6/23.

Accession Number: 20231106-5049.

Comment Date: 5 p.m. ET 11/27/23.

Docket Numbers: ER24-347-000.

Applicants: Alabama Power Company, Georgia Power Company, Mississippi Power Company.

Description: § 205(d) Rate Filing: Alabama Power Company submits tariff filing per 35.13(a)(2)(iii: Channel Cat Solar II LGIA Filing to be effective 10/25/2023.

Filed Date: 11/6/23.

Accession Number: 20231106-5055.

Comment Date: 5 p.m. ET 11/27/23.

Docket Numbers: ER24-348-000.

Applicants: Alabama Power Company, Georgia Power Company, Mississippi Power Company.

Description: § 205(d) Rate Filing: Alabama Power Company submits tariff filing per 35.13(a)(2)(iii: Needmore Solar LGIA Filing to be effective 10/25/2023.

Filed Date: 11/6/23.

Accession Number: 20231106-5057.

Comment Date: 5 p.m. ET 11/27/23.

Take notice that the Commission received the following electric reliability filings

Docket Numbers: RD23-5-000.

Applicants: North American Electric Reliability Corporation.

Description: North American Electric Reliability Corporation submits Amended Petition for Approval of Proposed Reliability Standard PRC-023-6 in Response to FERC's October 10, 2023, Additional Information Request.

Filed Date: 11/3/23.

Accession Number: 20231103-5184.

Comment Date: 5 p.m. ET 11/27/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 6, 2023.
Debbie-Anne A. Reese,
Deputy Secretary.

[FR Doc. 2023-24915 Filed 11-9-23; 8:45 am]

BILLING CODE 6717-01-P